DEPARTMENT OF HOMELAND SECURITY

Coast Guard

33 CFR Parts 100 and 165

[Docket No. USCG-2013-0904]

RIN 1625-AA08; AA00

Special Local Regulations and Safety Zones; Recurring Events in Northern New England

AGENCY: Coast Guard, DHS.

ACTION: Notice of proposed rulemaking.

SUMMARY: The Coast Guard proposes to update special local regulations and permanent safety zones in the Coast Guard Sector Northern New England Captain of the Port (COTP) Zone for annual recurring marine events. When enforced, these proposed special local regulations and safety zones would restrict vessels from portions of water areas during certain annually recurring events. The proposed special local regulations and safety zones are intended to expedite public notification and ensure the protection of the maritime public and event participants from the hazards associated with certain maritime events.

DATES: Comments and related material must be received by the Coast Guard on or before January 22, 2014. Requests for public meetings must be received by the Coast Guard on or before December 30, 2013.

ADDRESSES: You may submit comments identified by docket number USCG-2013-0904 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for instructions on submitting comments. To avoid duplication, please use only one of these four methods.

FOR FURTHER INFORMATION CONTACT: If you have questions on this proposed rule, call or email Lieutenant Junior Grade Elizabeth Gunn, Waterways Management Division at Coast Guard Sector Northern New England, telephone 207-767-0398, email Elizabeth.V.Gunn@uscg.mil. If you have questions on viewing or submitting material to the docket, call Barbara Hairston, Program Manager, Docket Operations, telephone 202-366-9826.

SUPPLEMENTARY INFORMATION:

Table of Acronyms

COTP Captain of the Port

DHS Department of Homeland Security

FR Federal Register

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking (USCG-2013-0904), indicate the specific section of this document to which each comment applies, and provide a reason for each suggestion or recommendation. You may submit your comments and material online (via http://www.regulations.gov) or by fax, mail, or hand delivery, but please use only one of these means. If you submit a comment online via www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number [USCG-2013-0904] in the “SEARCH” box and click “SEARCH.” Click on “Submit a Comment” on the line associated with this rulemaking.

If you submit your comments by mail or hand delivery, submit them in an unbound format, no larger than 8 ½; by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2013-0904) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one using one of the four methods specified under ADDRESSES. Please explain why you believe a public meeting would be beneficial. If we determine that one would aid this rulemaking, we will hold one at a time and place announced by a later notice in the Federal Register.

B. Regulatory History and Information

The two regulatory sections that the Coast Guard proposes to amend were originally established in 2011. Specifically, the final rules for 33 CFR §§ 100.120 and 165.171 were published on March 30, 2011 (76 FR 17530 and 76 FR 17537). These final rules was issued in order to reduce administrative overhead, expedite public notification of events, and ensure the protection of the maritime public during approximately 180 marine events in the Sector Northern New England area. Each year since these two sections were created, the table in each regulatory section has been updated to reflected changes in regular recurring events, such as additions or deletions of events or updates to pertinent event details. Although the tables have been updated, the actual regulations within 33 CFR 100.120 and 165.171 have not changed since the original publication in March of 2011. The Coast Guard has received no comments from the public since these two sections were originally established.

C. Basis and Purpose

The legal basis for the proposed rule is 33 U.S.C. 1226, 1231, 1233; 46 U.S.C. Chapter 701, 3306, 3703; 50 U.S.C. 191, 195; 33 CFR 1.05-1, and 160.5; Public Law 107-295, 116 Stat. 2064; and Department of Homeland Security Delegation No. 0170.1, which collectively authorize the Coast Guard to establish safety zones and special local regulations.

Swim events, fireworks displays, and marine events are held on an annual recurring basis on the navigable waters within the Coast Guard Sector Northern New England COTP Zone. In the past, the Coast Guard has established special local regulations, regulated areas, and safety zones for these annual recurring events on a case by case basis to ensure the protection of the maritime public and event participants from the hazards associated with these events. As mentioned above, the Coast Guard has not received public comments or concerns regarding the impact to waterway traffic from the Coast Guard's regulations associated with these annually recurring events. In the past year, events were assessed for their likelihood to recur in subsequent years or to discontinue and were added to or deleted from the tables accordingly. In additions, minor changes to existing events were made to ensure the accuracy of event details.

D. Discussion of Proposed Rule

The Coast Guard proposes to amend 33 CFR 100.120 (Special Local Regulations) and 33 CFR 165.171 (Safety Zones). The proposed rule would update the list of annual recurring events in the existing regulation for the Coast Guard Sector Northern New England COTP Zone. The Tables provide the event name, sponsor, and type, as well as approximate times, dates, and locations of the events. Advanced public notification of specific times, dates, regulated areas, and enforcement periods for each event will be provided through appropriate means, which may include, but are not limited to, the Local Notice to Mariners, Broadcast Notice to Mariners, or a Notice of Enforcement published in the Federal Register at least 30 days prior to the event date. If an event does not have a date and time listed in this regulation, then the precise dates and times of the enforcement period for that event will be announced through a Notice of Enforcement in the Federal Register.

E. Regulatory Analyses

The Coast Guard developed this proposed rule after considering numerous statutes and executive orders related to rulemaking. Below we summarize our analyses based on these statutes or executive orders.

1. Regulatory Planning and Review

This proposed rule is not a significant regulatory action under section 3(f) of Executive Order 12866, Regulatory Planning and Review, as supplemented by Executive Order 13563, and does not require an assessment of potential costs and benefits under section 6(a)(3) of that Order. The Office of Management and Budget has not reviewed it under that Order.

We expect the economic impact of this proposed rule to be minimal. Although this regulation may have some impact on the public, the potential impact will be minimized for the following reasons: The Coast Guard is only modifying an existing regulation to account for new information.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule will not have a significant economic impact on a substantial number of small entities.

This proposed rule would affect the following entities, some of which might be small entities: Owners or operators of vessels intending to transit, fish, or anchor in the areas where the listed annual recurring events are being held. The proposed rule would not have a significant impact on a substantial number of small entities for all of the same reasons discussed in the Regulatory Planning and Review section above.

If you think that your business, organization, or governmental jurisdiction qualifies as a small entity and that this rule would have a significant economic impact on it, please submit a comment (see ADDRESSES) explaining why you think it qualifies and how and to what degree this rule would economically affect it.

3. Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the person listed under FOR FURTHER INFORMATION CONTACT. The Coast Guard will not retaliate against small entities that question or complain about this proposed rule or any policy or action of the Coast Guard.

4. Collection of Information

This proposed rule would call for no new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this proposed rule under that Order and have determined that it does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

8. Taking of Private Property

This proposed rule would not cause a taking of private property or otherwise have taking implications under Executive Order 12630, Governmental Actions and Interference with Constitutionally Protected Property Rights.

9. Civil Justice Reform

This proposed rule meets applicable standards in sections 3(a) and 3(b)(2) of Executive Order 12988, Civil Justice Reform, to minimize litigation, eliminate ambiguity, and reduce burden.

10. Protection of Children From Environmental Health Risks

We have analyzed this proposed rule under Executive Order 13045, Protection of Children from Environmental Health Risks and Safety Risks. This rule is not an economically significant rule and would not create an environmental risk to health or risk to safety that might disproportionately affect children.

11. Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This proposed rule is not a “significant energy action” under Executive Order 13211, Actions Concerning Regulations That Significantly Affect Energy Supply, Distribution, or Use.

13. Technical Standards

This proposed rule does not use technical standards. Therefore, we did not consider the use of voluntary consensus standards.

14. Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment.

A preliminary environmental analysis checklist supporting this determination will be available in the docket where indicated under ADDRESSES. This proposed rule involves water activities including swimming events and fireworks displays. This rule may be categorically excluded, under figure 2-1, paragraph (34)(g) (Safety Zones) and (34)(h) (Special Local Regulations) of the Instruction. We seek any comments or information that may lead to the discovery of a significant environmental impact from this proposed rule.

List of Subjects

33 CFR Part 100

Marine safety, Navigation (water), Reporting and recordkeeping requirements, Waterways.

33 CFR Part 165

Harbors, Marine Safety, Navigation (water), Reporting and recordkeeping requirements, Security measures, and Waterways.

For the reasons discussed in the preamble, the Coast Guard proposes to amend 33 CFR parts 100 and 165 as follows:

PART 100—SAFETY OF LIFE ON NAVIGABLE WATERS

1. The authority citation for part 100 continues to read as follows:

Authority: 33 U.S.C. 1233.

1. In § 100.120, revise the TABLE to read as follows:

§ 100.120 Special Local Regulations; Marine Events Held in the Coast Guard Sector Northern New England COTP Zone.

* * * * *

Table to § 100.120
0.0 | May occur May through September
0.1 Tall Ships Visiting Portsmouth | • Event Type: Regatta and Boat Parade.
| • Sponsor: Portsmouth Maritime CommissioN, Inc.
| • Date: A four day event from Friday through Monday.*
| • Time (Approximate): 9:00 am to 8:00 pm each day.
| • Location: The regulated area includes all waters of Portsmouth Harbor, New Hampshire in the vicinity of Castle Island within the following points (NAD 83):
| 43°03′11″ N, 070°42′26″ W.
| 43°03′18″ N, 070°41′51″ W.
| 43°04′42″ N, 070°42′11″ W.
| 43°04′28″ N, 070°44′12″ W.
| 43°05′36″ N, 070°45′56″ W.
| 43°05′29″ N, 070°46′09″ W.
| 43°04′19″ N, 070°44′16″ W.
| 43°04′22″ N, 070°42′33″ W.
6.0 | JUNE
6.1 Bar Harbor Blessing of the Fleet | • Event Type: Regatta and Boat Parade
| • Sponsor: Town of Bar Harbor, Maine.
| • Date: A one day event between the 15th of May and the 15th of June.*
| • Time (Approximate): 12:00 pm to 1:30 pm.
| • Location: The regulated area includes all waters of Bar Harbor, Maine within the following points (NAD 83):
| 44°23′32″ N, 068°12′19″ W.
| 44°23′30″ N, 068°12′00″ W.
| 44°23′37″ N, 068°12′00″ W.
| 44°23′35″ N, 068°12′19″ W.
6.2 Charlie Begin Memorial Lobster Boat Races | • Event Type: Power Boat Race.
| • Sponsor: Boothbay Harbor Lobster Boat Race Committee.
| • Date: A one day event in June.*
| • Time (Approximate): 10:00 am to 3:00 pm.
| • Location: The regulated area includes all waters of Boothbay Harbor, Maine in the vicinity of John's Island within the following points (NAD 83):
| 43°50′04″ N, 069°38′37″ W.
| 43°50′54″ N, 069°38′06″ W.
| 43°50′49″ N, 069°37′50″ W.
| 43°50′00″ N, 069°38′20″ W.
6.3 Rockland Harbor Lobster Boat Races | • Event Type: Power Boat Race.
| • Sponsor: Rockland Harbor Lobster Boat Race Committee.
| • Date: A one day event in June.*
| • Time (Approximate): 9:00 am to 5:00 pm.
| • Location: The regulated area includes all waters of Rockland Harbor, Maine in the vicinity of the Rockland Breakwater Light within the following points (NAD 83):
| 44°05′59″ N, 069°04′53″ W.
| 44°06′43″ N, 069°05′25″ W.
| 44°06′50″ N, 069°05′05″ W.
| 44°06′05″ N, 069°04′34″ W.
6.4 Windjammer Days Parade of Ships | • Event Type: Tall Ship Parade.
| • Sponsor: Boothbay Region Chamber of Commerce.
| • Date: A one day event in June.*
| • Time (Approximate): 12:00 pm to 5:00 pm.
| • Location: The regulated area includes all waters of Boothbay Harbor, Maine in the vicinity of Tumbler's Island within the following points (NAD 83):
| 43°51′02″ N, 069°37′33″ W.
| 43°50′47″ N, 069°37′31″ W.
| 43°50′23″ N, 069°37′57″ W.
| 43°50′01″ N, 069°37′45″ W.
| 43°50′01″ N, 069°38′31″ W.
| 43°50′25″ N, 069°38′25″ W.
| 43°50′49″ N, 069°37′45″ W.
6.5 Bass Harbor Blessing of the Fleet Lobster Boat Race. | • Event Type: Power Boat Race
| • Sponsor: Tremont Congregational Church.
| • Date: A one day event in June.*
| • Time (Approximate): 10:00 am to 2:00 pm.
| • Location: The regulated area includes all waters of Bass Harbor, Maine in the vicinity of Lopaus Point within the following points (NAD 83):
| 44°13′28″ N, 068°21′59″ W.
| 44°13′20″ N, 068°21′40″ W.
| 44°14′05″ N, 068°20′55″ W.
| 44°14′12″ N, 068°21′14″ W.
6.6 Long Island Lobster Boat Race | • Event Type: Power Boat Race.
| • Sponsor: Long Island Lobster Boat Race Committee.
| • Date: A one day event in June.*
| • Time (Approximate) 10:00 am to 3:00 pm.
| • Location: The regulated area includes all waters of Casco Bay, Maine in the vicinity of Great Ledge Cove and Dorseys Cove off the north west coast of Long Island, Maine within the following points (NAD 83):
| 43°41′59″ N, 070°08′59″ W.
| 43°42′04″ N, 070°09′10″ W.
| 43°41′41″ N, 070°09′38″ W.
| 43°41′36″ N, 070°09′30″ W.
7.0 | JULY
7.1 Moosabec Lobster Boat Races | • Event Type: Power Boat Race.
| • Sponsor: Moosabec Boat Race Committee.
| • Date: A one day event held near July 4th.*
| • Time (Approximate): 10:00 am to 12:30 pm.
| • Location: The regulated area includes all waters of Jonesport, Maine within the following points (NAD 83):
| 44°31′21″ N, 067°36′44″ W.
| 44°31′36″ N, 067°36′47″ W.
| 44°31′44″ N, 067°35′36″ W.
| 44°31′29″ N, 067°35′33″ W.
7.2 The Great Race | • Event Type: Rowing and Paddling Boat Race
| • Sponsor: Franklin County Chamber of Commerce.
| • Date: A one day event on a Sunday between the 15th of August and the 15th of September.*
| • Time (Approximate): 10:00 am to 12:30 pm.
| • Location: The regulated area includes all waters of Lake Champlain in the vicinity of Saint Albans Bay within the following points (NAD 83):
| 44°47′18″ N, 073°10′27″ W.
| 44°47′10″ N, 073°08′51″ W.
7.3 Searsport Lobster Boat Races | • Event Type: Power Boat Race.
| • Sponsor: Searsport Lobster Boat Race Committee.
| • Date: A one day event in July.*
| • Time (Approximate): 9:00 am to 4:00 pm.
| • Location: The regulated area includes all waters of Searsport Harbor, Maine within the following points (NAD 83):
| 44°26′50″ N, 068°55′20″ W.
| 44°27′04″ N, 068°55′26″ W.
| 44°27′12″ N, 068°54′35″ W.
| 44°26′59″ N, 068°54′29″ W.
7.4 Stonington Lobster Boat Races | • Event Type: Power Boat Race.
| • Sponsor: Stonington Lobster Boat Race Committee.
| • Date: A one day event in July.*
| • Time (Approximate): 8:00 am to 3:30 pm.
| • Location: The regulated area includes all waters of StoningtoN, Maine within the following points (NAD 83):
| 44°08′55″ N, 068°40′12″ W.
| 44°09′00″ N, 068°40′15″ W.
| 44°09′11″ N, 068°39′42″ W.
| 44°09′07″ N, 068°39′39″ W.
7.5 Mayor's Cup Regatta | • Event Type: Sailboat Parade.
| • Sponsor: Plattsburgh Sunrise Rotary.
| • Date: A one day event in July.*
| • Time (Approximate): 10:00 am to 4:00 pm.
| • Location: The regulated area includes all waters of Cumberland Bay on Lake Champlain in the vicinity of Plattsburgh, New York within the following points (NAD 83):
| 44°41′26″ N, 073°23′46″ W.
| 44°40′19″ N, 073°24′40″ W.
| 44°42′01″ N, 073°25′22″ W.
7.6 The Challenge Race | • Event Type: Rowing and Paddling Boat Race.
| • Sponsor: Lake Champlain Maritime Museum.
| • Date: A one day event in July.*
| • Time (Approximate): 11:00 am to 3:00 pm.
| • Location: The regulated area includes all waters of Lake Champlain in the vicinity of Button Bay State Park within the following points (NAD 83):
| 44°12′25″ N, 073°22′32″ W.
| 44°12′00″ N, 073°21′42″ W.
| 44°12′19″ N, 073°21′25″ W.
| 44°13′16″ N, 073°21′36″ W.
7.7 Yarmouth Clam Festival Paddle Race | • Event Type: Rowing and Paddling Boat Race.
| • Sponsor: Maine Island Trail Association.
| • Date: A one day event in July.*
| • Time (Approximate): 8:00 am to 4:00 pm.
| • Location: The regulated area includes all waters in the vicinity of the Royal River outlet and Lane's Island within the following points (NAD 83):
| 43°47′47″N, 070°08′40″ W.
| 43°47′50″N, 070°07′13″ W.
| 43°47′06″N, 070°07′32″ W.
| 43°47″17″N, 070°08′25″ W.
7.8 Maine Windjammer Lighthouse Parade | • Event Type: Wooden Boat Parade.
| • Sponsor: Maine Windjammer Association.
| • Date: A one day event in July.*
| • Time (Approximate): 1:00 pm to 3:00 pm.
| • Location: The regulated area includes all waters of Rockland Harbor, Maine in the vicinity of the Rockland Harbor Breakwater within the following points (NAD 83):
| 44°06′14″ N, 069°03′48″ W.
| 44°05′50″ N, 069°03′47″ W.
| 44°06′14″ N, 069°05′37″ W.
| 44°05′50″ N, 069°05′37″ W.
7.9 Friendship Lobster Boat Races | • Event Type: Power Boat Race.
| • Sponsor: Friendship Lobster Boat Race Committee.
| • Date: A one day event during a weekend between the 15th of July and the 15th of August.*
| • Time (Approximate): 9:30 am to 3:00 pm.
| • Location: The regulated area includes all waters of Friendship Harbor, Maine within the following points (NAD 83):
| 43°57′51″ N, 069°20′46″ W.
| 43°58′14″ N, 069°19′53″ W.
| 43°58′19″ N, 069°20′01″ W.
| 43°58′00″ N, 069°20′46″ W.
7.10 Harpswell Lobster Boat Races | • Event Type: Power Boat Race.
| • Sponsor: Harpswell Lobster Boat Race Committee.
| • Date: A one day event between the 15th of July and the 15th of August.*
| • Time (Approximate): 10:00 am to 3:00 pm.
| • Location: The regulated area includes waters of Middle Bay near Harpswell, Maine within the following points (NAD 83):
| 43°44′15″ N, 070°02′06″ W.
| 43°44′59″ N, 070°01′21″ W.
| 43°44′51″ N, 070°01′05″ W.
| 43°44′06″ N, 070°01′49″ W.
8.0 | AUGUST
8.1 Eggemoggin Reach Regatta | • Event Type: Wooden Boat Parade.
| • Sponsor: Rockport Marine, Inc. and Brooklin Boat Yard.
| • Date: A one day event on a Saturday between the 15th of July and the 15th of August.*
| • Time (Approximate): 11:00 am to 7:00 pm.
| • Location: The regulated area includes all waters of Eggemoggin Reach and Jericho Bay in the vicinity of Naskeag Harbor, Maine within the following points (NAD 83):
| 44°15′16″ N, 068°36′26″ W.
| 44°12′41″ N, 068°29′26″ W.
| 44°07′38″ N, 068°31′30″ W.
| 44°12′54″ N, 068°33′46″ W.
8.2 Southport Rowgatta Rowing and Paddling Boat Race. | • Event Type: Rowing and Paddling Boat Race
| • Sponsor: Boothbay Region YMCA.
| • Date: A one day event in August.*
| • Time (Approximate): 8:00 am to 3:00 pm.
| • Location: The regulated area includes all waters of Sheepscot Bay and Boothbay, on the shore side of Southport Island, Maine within the following points (NAD 83):
| 43°50′26″ N, 069°39′10″ W.
| 43°49′10″ N, 069°38′35″ W.
| 43°46′53″ N, 069°39′06″ W.
| 43°46′50″ N, 069°39′32″ W.
| 43°49′07″ N, 069°41′43″ W.
| 43°50′19″ N, 069°41′14″ W.
| 43°51′11″ N, 069°40′06″ W.
8.3 Winter Harbor Lobster Boat Races | • Event Type: Power Boat Race.
| • Sponsor: Winter Harbor Chamber of Commerce.
| • Date: A one day event in August.*
| • Time (Approximate): 9:00 am to 3:00 pm.
| • Location: The regulated area includes all waters of Winter Harbor, Maine within the following points (NAD 83):
| 44°22′06″ N, 068°05′13″ W.
| 44°23′06″ N, 068°05′08″ W.
| 44°23′04″ N, 068°04′37″ W.
| 44°22′05″ N, 068°04′44″ W.
8.4 Lake Champlain Dragon Boat Festival | • Event Type: Rowing and Paddling Boat Race.
| • Sponsor: Dragonheart Vermont.
| • Date: A one day event in August.*
| • Time (Approximate): 7:00 am to 5:00 pm.
| • Location: The regulated area includes all waters of Burlington Bay within the following points (NAD 83):
| 44°28′49″ N, 073°13′22″ W.
| 44°28′41″ N, 073°13′36″ W.
| 44°28′28″ N, 073°13′31″ W.
| 44°28′38″ N, 073°13′18″ W.
8.5 Merritt Brackett Lobster Boat Races | • Event Type: Power Boat Race.
| • Sponsor: Town of Bristol, Maine.
| • Date: A one day event in August.*
| • Time (Approximate): 10:00 am to 3:00 pm.
| • Location: The regulated area includes all waters of Pemaquid Harbor, Maine within the following points (NAD 83):
| 43°52′16″ N, 069°32′10″ W.
| 43°52′41″ N, 069°31′43″ W.
| 43°52′35″ N, 069°31′29″ W.
| 43°52′09″ N, 069°31′56″ W.
8.6 Multiple Sclerosis Harbor Fest Regatta And Lobster Boat/Tugboat Races. | • Event Type: Regatta and Sailboat Race; Power Boat Race.
| • Sponsor: Maine Chapter, Multiple Sclerosis Society.
| • Date: A two day event in August.*
| • Time (Approximate): 10:00 am to 4:00 pm.
| • Location: The regulated area for the start of the race includes all waters of Casco Bay, Maine in the vicinity of Peaks Island within the following points (NAD 83):
| 43°40′25″ N, 070°14′21″ W.
| 43°40′36″ N, 070°13′56″ W.
| 43°39′58″ N, 070°13′21″ W.
| 43°39′46″ N, 070°13′51″ W.
9.0 | SEPTEMBER
9.1 Pirates Festival Lobster Boat Races | • Event Type: Power Boat Race.
| • Sponsor: Eastport Pirates Festival.
| • Date: A one day event in September.*
| • Time (Approximate): 11:00 am to 6:00 pm.
| • Location: The regulated area includes all waters in the vicinity of Eastport Harbor, Maine within the following points (NAD 83):
| 44°54′14″ N, 066°58′52″ W.
| 44°54′14″ N, 068°58′56″ W.
| 44°54′24″ N, 066°58′52″ W.
| 44°54′24″ N, 066°58′56″ W.
* Date subject to change. Exact date will be posted in Notice of Enforcement and Local Notice to Mariners

PART 165—REGULATED NAVIGATION AREAS AND LIMITED ACCESS AREAS

3. The authority citation for part 165 continues to read as follows:

Authority: 33 U.S.C. 1231; 46 U.S.C. Chapter 701, 3306, 3703; 33 CFR 1.05-1, 6.04-1, 6.04-6, and 160.5; Pub. L. 107-295, 116 Stat. 2064; Department of Homeland Security Delegation No. 0170.1.

4. In § 165.171, revise the TABLE to read as follows:

§ 165.171 Safety Zones for fireworks displays and swim events held in Coast Guard Sector Northern New England COTP Zone.

* * * * *

Table to § 165.171
5.0 | MAY
5.1 Hawgs, Pies, & Fireworks | • Event Type: Fireworks Display.
| • Sponsor: Gardiner Maine Street.
| • Date: One night event between the 15th of May and the 15th of June.*
| • Time (Approximate): 8:00 pm to 10:00 pm.
| • Location: In the vicinity of the Gardiner Waterfront, Gardiner, Maine in approximate position:
| 44°13′52″ N, 069°46′08″ W (NAD 83).
6.0 | JUNE
6.1 Rotary Waterfront Days Fireworks | • Event Type: Fireworks Display.
| • Sponsor: Gardiner Rotary.
| • Date: Two night event on a Wednesday and Saturday in June.*
| • Time (Approximate): 8:00 pm to 10:00 pm.
| • Location: In the vicinity of the Gardiner Waterfront, Gardiner, Maine in approximate position:
| 44°13′52″ N, 069°46′08″ W (NAD 83).
6.2 LaKermesse Fireworks | • Event Type: Fireworks Display.
| • Sponsor: Ray Gagne.
| • Date: One night event in June.*
| • Time (Approximate): 8:00 pm to 10:00 pm.
| • Location: Biddeford, Maine in approximate position:
| 43°29′37″ N, 070°26′47″ W (NAD 83).
6.3 Windjammer Days Fireworks | • Event Type: Fireworks Display.
| • Sponsor: Boothbay Harbor Region Chamber of Commerce.
| • Date: One night event in June.*
| • Time (Approximate): 8:00 pm to 10:30 pm.
| • Location: In the vicinity of McFarland Island, Boothbay Harbor, Maine in approximate position:
| 43°50′38″ N, 069°37′57″ W (NAD 83).
7.0 | JULY
7.1 Vinalhaven 4th of July Fireworks | • Event Type: Fireworks Display.
| • Sponsor: Vinalhaven 4th of July Committee.
| • Date: One night event in July.*
| • Time (Approximate): 8:00 pm to 10:30 pm.
| • Location: In the vicinity of Grime's Park, Vinalhaven, Maine in approximate position:
| 44°02′34″ N, 068°50′26″ W (NAD 83).
7.2 Burlington Independence Day Fireworks. | • Event Type: Fireworks Display.
| • Sponsor: City of Burlington, Vermont.
| • Date: One night event in July.*
| • Time (Approximate): 9:00 pm to 11:00 pm.
| • Location: From a barge in the vicinity of Burlington Harbor, Burlington, Vermont in approximate position:
| 44°28′31″ N, 073°13′31″ W (NAD 83).
7.3 Camden 3rd of July Fireworks | • Event Type: Fireworks Display.
| • Sponsor: Camden, Rockport, Lincolnville Chamber of Commerce.
| • Date: One night event in July.*
| • Time (Approximate): 8:00 pm to 10:00 pm.
| • Location: In the vicinity of Camden Harbor, Maine in approximate position:
| 44°12′32″ N, 069°02′58″ W (NAD 83).
7.4 Bangor 4th of July Fireworks | • Event Type: Fireworks Display.
| • Sponsor: Bangor 4th of July Fireworks.
| • Date: One night event in July.*
| • Time (Approximate): 8:00 pm to 10:30 pm.
| • Location: In the vicinity of the Bangor Waterfront, Bangor, Maine in approximate position:
| 44°47′27″ N, 068°46′31″ W (NAD 83).
7.5 Bar Harbor 4th of July Fireworks | • Event Type: Fireworks Display.
| • Sponsor: Bar Harbor Chamber of Commerce.
| • Date: One night event in July.*
| • Time (Approximate): 8:00 pm to 10:30 pm.
| • Location: In the vicinity of Bar Harbor Town Pier, Bar Harbor, Maine in approximate position:
| 44°23′31″ N, 068°12′15″ W (NAD 83).
7.6 Boothbay Harbor 4th of July Fireworks | • Event Type: Fireworks Display.
| • Sponsor: Town of Boothbay Harbor.
| • Date: One night event in July.*
| • Time (Approximate): 8:00 pm to 10:30 pm.
| • Location: In the vicinity of McFarland Island, Boothbay Harbor, Maine in approximate position:
| 43°50′38″ N, 069°37′57″ W (NAD 83).
7.7 Colchester 4th of July Fireworks | • Event Type: Fireworks Display.
| • Sponsor: Town of Colchester, Recreation Department.
| • Date: One night event in July.*
| • Time (Approximate): 8:00 pm to 10:00 pm.
| • Location: In the vicinity of Bayside Beach and Mallets Bay in Colchester, Vermont in approximate position:
| 44°32′44″ N, 073°13′10″ W (NAD 83).
7.8 Eastport 4th of July Fireworks | • Event Type: Fireworks Display.
| • Sponsor: Eastport 4th of July Committee.
| • Date: One night event in July.*
| • Time (Approximate): 9:00 pm to 9:30 pm.
| • Location: From the Waterfront Public Pier in Eastport, Maine in approximate position:
| 44°54′25″ N, 066°58′55″ W (NAD 83).
7.9 Ellis Short Sand Park Trustee Fireworks | • Event Type: Fireworks Display.
| • Sponsor: William Burnham.
| • Date: One night event in July.*
| • Time (Approximate): 8:30 pm to 11:00 pm.
| • Location: In the vicinity of York Beach, Maine in approximate position:
| 43°10′27″ N, 070°36′26″ W (NAD 83).
7.10 Hampton Beach 4th of July Fireworks | • Event Type: Fireworks Display.
| • Sponsor: Hampton Beach Village District.
| • Date: One night event in July.*
| • Time (Approximate): 8:30 pm to 11:00 pm.
| • Location: In the vicinity of Hampton Beach, New Hampshire in approximate position:
| 42°54′40″ N, 070°36′25″ W (NAD 83).
7.11 Jonesport 4th of July Fireworks | • Event Type: Fireworks Display.
| • Sponsor: Jonesport 4th of July Committee.
| • Date: One night event in July.*
| • Time (Approximate): 8:00 pm to 10:30 pm.
| • Location: In the vicinity of Beals Island, Jonesport, Maine in approximate position:
| 44°31′18″ N, 067°36′43″ W (NAD 83).
7.12 Lubec Bicentennial Fireworks | • Event Type: Fireworks Display.
| • Sponsor: Town of Lubec, Maine.
| • Date: One night event in July.*
| • Time (Approximate): 8:00 pm to 10:30 pm.
| • Location: In the vicinity of the Lubec Public Boat Launch in approximate position:
| 44°51′52″ N, 066°59′06″ W (NAD 83).
7.13 Main Street Heritage Days 4th of July Fireworks | • Event Type: Fireworks Display.
| • Sponsor: Main Street Inc.
| • Date: One night event in July.*
| • Time (Approximate): 8:00 pm to 10:30 pm.
| • Location: In the vicinity of Reed and Reed Boat Yard, Woolwich, Maine in approximate position:
| 43°54′56″ N, 069°48′16″ W (NAD 83).
7.14 Portland Harbor 4th of July Fireworks | • Event Type: Fireworks Display.
| • Sponsor: Department of Parks and Recreation, Portland, Maine.
| • Date: One night event in July.*
| • Time (Approximate): 8:30 pm to 10:30 pm.
| • Location: In the vicinity of East End Beach, Portland, Maine in approximate position:
| 43°40′16″ N, 070°14′44″ W (NAD 83).
7.15 St. Albans Day Fireworks | • Event Type: Fireworks Display.
| • Sponsor: St. Albans Area Chamber of Commerce.
| • Date: One night event in July.*
| • Time (Approximate): 9:00 pm to 10:00 pm.
| • Location: From the St. Albans Bay dock in St. Albans Bay, Vermont in approximate position:
| 44°48′25″ N, 073°08′23″ W (NAD 83).
7.16 Stonington 4th of July Fireworks | • Event Type: Fireworks Display.
| • Sponsor: Deer Isle—Stonington Chamber of Commerce.
| • Date: One night event in July.*
| • Time (Approximate): 8:00 pm to 10:30 pm.
| • Location: In the vicinity of Two Bush Island, Stonington, Maine in approximate position:
| 44°08′57″ N, 068°39′54″ W (NAD 83).
7.17 Southwest Harbor 4th of July Fireworks | • Event Type: Fireworks Display.
| • Sponsor: Sharon Gilley.
| • Date: One night event in July.*
| • Time (Approximate): 8:00 pm to 10:30 pm.
| • Location: Southwest Harbor, Maine in approximate position:
| 44°16′25″ N, 068°19′21″ W (NAD 83).
7.18 Prentice Hospitality Group Fireworks | • Event Type: Fireworks Display.
| • Sponsor: Prentice Hospitality Group.
| • Date: One night event in July.*
| • Time (Approximate): 8:00 pm to 10:30 pm.
| • Location: Chebeague Island, Maine in approximate position:
| 43°45′12″ N, 070°06′27″ W (NAD 83).
7.19 Shelburne Triathlons | • Event Type: Swim Event.
| • Sponsor: Race Vermont.
| • Date: Up to three Saturdays throughout July and August.*
| • Time (Approximate): 7:00 am to 11:00 am.
| • Location: The regulated area includes all waters of Lake Champlain in the vicinity of Shelburne Beach in Shelburne, Vermont within a 400 yard radius of the following point (NAD 83):
| 44°21′45″ N, 075°15′58″ W.
7.20 St. George Days Fireworks | • Event Type: Fireworks.
| • Sponsor: Town of St. George.
| • Date: One night event in July.*
| • Time (Approximate): 8:30 pm to 10:30 pm.
| • Location: The regulated area includes all waters of Inner Tenants Harbor, ME, in approximate position (NAD 83):
| 43°57′41.37″ N, 069°12′45″ W.
7.21 Tri for a Cure Swim Clinics and Triathlon | • Event Type: Swim Event.
| • Sponsor: Maine Cancer Foundation
| • Date: A multi-day event held throughout July.*
| • Time (Approximate): 8:30 am to 11:30 am
| • Location: The regulated area includes all waters of Portland Harbor, Maine in the vicinity of Spring Point Light within the following points (NAD 83):
| 43°39′01″ N, 070°13′32″ W.
| 43°39′07″ N, 070°13′29″ W.
| 43°39′06″ N, 070°13′41″ W.
| 43°39′01″ N, 070°13′36″ W.
7.22 Richmond Days Fireworks | • Event Type: Fireworks Display.
| • Sponsor: Town of Richmond, Maine.
| • Date: A one day event in July.*
| • Time (Approximate): 8:00 pm to 10:00 pm.
| • Location: From a barge in the vicinity of the inner harbor, Tenants Harbor, Maine in approximate position:
| 44°08′42″ N, 068°27′06″ W (NAD83).
7.23 Colchester Triathlon | • Event Type: Swim Event.
| • Sponsor: Colchester Parks and Recreation Department.
| • Date: A one day event in July.*
| • Time (Approximate): 7:00 am to 11:00 am.
| • Location: The regulated area includes all waters of Malletts Bay on Lake Champlain, Vermont within the following points (NAD 83):
| 44°32′18″ N, 073°12′35″ W.
| 44°32′28″ N, 073°12′56″ W.
| 44°32′57″ N, 073°12′38″ W.
7.24 Peaks to Portland Swim | • Event Type: Swim Event.
| • Sponsor: Cumberland County YMCA.
| • Date: A one day event in July.*
| • Time (Approximate): 5:00 am to 1:00 pm.
| • Location: The regulated area includes all waters of Portland Harbor between Peaks Island and East End Beach in Portland, Maine within the following points (NAD 83):
| 43°39′20″ N, 070°11′58″ W.
| 43°39′45″ N, 070°13′19″ W.
| 43°40′11″ N, 070°14′13″ W.
| 43°40′08″ N, 070°14′29″ W.
| 43°40′00″ N, 070°14′23″ W.
| 43°39′34″ N, 070°13′31″ W.
| 43°39′13″ N, 070°11′59″ W.
7.25 Friendship Days Fireworks | • Event Type: Fireworks Display.
| • Sponsor: Town of Friendship.
| • Date: A one day event in July.*
| • Time (Approximate): 8:00 pm to 10:30 pm.
| • Location: In the vicinity of the Town Pier, Friendship Harbor, Maine in approximate position:
| 43°58′23″ N, 069°20′12″ W (NAD83).
7.26 Bucksport Festival and Fireworks | • Event Type: Fireworks Display.
| • Sponsor: Bucksport Bay Area Chamber of Commerce.
| • Date: A one day event in July.*
| • Time (Approximate): 8:00 pm to 10:30 pm.
| • Location: In the vicinity of the Verona Island Boat Ramp, Verona, Maine, in approximate position:
| 44°34′9″ N, 068°47′28″ W (NAD83).
7.27 Nubble Light Swim Challenge | • Event Type: Swim Event.
| • Sponsor: Nubble Light Challenge.
| • Date: A one day event in July.*
| • Time (Approximate): 9:00 am to 12:30 pm.
| • Location: The regulated area includes all waters around Cape Neddick, Maine and within the following coordinates:
| 43°10′28″ N, 070°36′26″ W.
| 43°10′34″ N, 070°36′06″ W.
| 43°10′30″ N, 070°35′45″ W.
| 43°10′17″ N, 070°35′24″ W.
| 43°09′54″ N, 070°35′18″ W.
| 43°09′42″ N, 070°35′37″ W.
| 43°09′51″ N, 070°37′05″ W.
8.0 | August
8.1 Sprucewold Cabbage Island Swim | • Event Type: Swim Event.
| • Sponsor: Sprucewold Association.
| • Date: A one day event in August.*
| • Time (Approximate): 1:00 pm to 6:00 pm.
| • Location: The regulated area includes all waters of Linekin Bay between Cabbage Island and Sprucewold Beach in Boothbay Harbor, Maine within the following points (NAD 83):
| 43°50′37″ N, 069°36′23″ W.
| 43°50′37″ N, 069°36′59″ W.
| 43°50′16″ N, 069°36′46″ W.
| 43°50′22″ N, 069°36′21″ W.
8.2 Westerlund's Landing Party Fireworks | • Event Type: Fireworks Display.
| • Sponsor: Portside Marina.
| • Date: A one day event in August.*
| • Time (Approximate): 8:00 pm to 10:30 pm.
| • Location: In the vicinity of Westerlund's Landing in South Gardiner, Maine in approximate position:
| 44°10′19″ N, 069°45′24″ W (NAD 83).
8.3 Y-Tri Triathlon | • Event Type: Swim Event.
| • Sponsor: Plattsburgh YMCA.
| • Date: A one day event in August.*
| • Time (Approximate): 9:00 am to 10:00 am.
| • Location: The regulated area includes all waters of Treadwell Bay on Lake Champlain in the vicinity of Point Au Roche State Park, Plattsburgh, New York within the following points (NAD 83):
| 44°46′30″ N, 073°23′26″ W.
| 44°46′17″ N, 073°23′26″ W.
| 44°46′17″ N, 073°23′46″ W.
| 44°46′29″ N, 073°23′46″ W.
8.4 York Beach Fire Department Fireworks | • Event Type: Fireworks Display.
| • Sponsor: York Beach Fire Department.
| • Date: A one day event in August.*
| • Time (Approximate): 8:30 pm to 11:30 pm.
| • Location: In the vicinity of Short Sand Cove in York, Maine in approximate position:
| 43°10′27″ N, 070°36′25″ W (NAD 83).
8.5 Rockland Breakwater Swim | • Event Type: Swim Event.
| • Sponsor: Pen-Bay Masters.
| • Date: A one day event in August.*
| • Time (Approximate): 7:30 am to 1:30 pm.
| • Location: The regulated area includes all waters of Rockland Harbor, Maine in the vicinity of Jameson Point within the following points (NAD 83):
| 44°06′16″ N, 069°04′39″ W.
| 44°06′13″ N, 069°04′36″ W.
| 44°06′12″ N, 069°04′43″ W.
| 44°06′17″ N, 069°04′44″ W.
| 44°06′18″ N, 069°04′40″ W.
8.6 Tri for Preservation | • Event Type: Swim Event.
| • Sponsor: Tri-Maine Productions.
| • Date: A one day event in August.*
| • Time (Approximate): 7:30 am to 9:00 am.
| • Location: In the vicinity of Crescent Beach State Park in Cape Elizabeth, Maine in approximate position:
| 43°33′46″ N, 070°13′48″ W.
| 43°33′41″ N, 070°13′46″ W.
| 43°33′44″ N, 070°13′40″ W.
| 43°33′47″ N, 070°13′46″ W.
8.7 North Hero Air Show | • Event Type: Air Show.
| • Sponsor: North Hero Fire Department.
| • Date: A one day event in August.*
| • Time (Approximate): 10:00 am to 5:00 pm.
| • Location: In the vicinity of Shore Acres Dock, North Hero, Vermont in approximate position:
| 44°48′24″ N, 073°17′02″ W.
| 44°48′22″ N, 073°16′46″ W.
| 44°47′53″ N, 073°16′54″ W.
| 44°47′54″ N, 073°17′09″ W.
9.0 | SEPTEMBER
9.1 Windjammer Weekend Fireworks | • Event Type: Fireworks Display.
| • Sponsor: Town of Camden, Maine.
| • Date: A one night event in September.*
| • Time (Approximate): 8:00 pm to 9:30 pm.
| • Location: From a barge in the vicinity of Northeast Point, Camden Harbor, Maine in approximate position:
| 44°12′10″ N, 069°03′11″ W (NAD 83).
9.2 Eastport Pirate Festival Fireworks | • Event Type: Fireworks Display.
| • Sponsor: Eastport Pirate Festival.
| • Date: A one night event in September.*
| • Time (Approximate): 7:00 pm to 10:00 pm.
| • Location: From the Waterfront Public Pier in Eastport, Maine in approximate position:
| 44°54′17″ N, 066°58′58″ W (NAD 83).
9.3 The Lobsterman Triathlon | • Event Type: Swim Event.
| • Sponsor: Tri-Maine Productions.
| • Date: A one day event in September.*
| • Time (Approximate): 8:00 am to 11:00 am.
| • Location: The regulated area includes all waters in the vicinity of Winslow Park in South Freeport, Maine within the following points (NAD 83):
| 43°47′59″ N, 070°06′56″ W.
| 43°47′44″ N, 070°06′56″ W.
| 43°47′44″ N, 070°07′27″ W.
| 43°47′57″ N, 070°07′27″ W.
9.4 Eliot Festival Day Fireworks | • Event Type: Fireworks Display.
| • Sponsor: Eliot Festival Day Committee.
| • Date: A one night event in September.*
| • Time (Approximate): 8:00 pm to 10:30 pm.
| • Location: In the vicinity of Eliot Town Boat Launch, Eliot, Maine in approximate position:
| 43°08′56″ N, 070°49′52″ W (NAD 83).
* Date subject to change. Exact date will be posted in Notice of Enforcement and Local Notice to Mariners.

Dated: December 5, 2013.
B.S. Gilda,
Captain, U.S. Coast Guard, Captain of the Port Sector Northern New England.

[FR Doc. 2013-30387 Filed 12-20-13; 8:45 am]

BILLING CODE 9110-04-P